NUCLEAR REGULATORY COMMISSION

[Docket 72-30]

Maine Yankee Atomic Power Company; Issuance of Environmental Assessment and Finding of No Significant Impact Regarding a Proposed Exemption

AGENCY: Nuclear Regulatory Commission.

ACTION: Environmental assessment.

FOR FURTHER INFORMATION CONTACT: Jeremy A. Smith, Project Manager, Spent Fuel Project Office, Office of Nuclear Material Safety and Safeguards, U.S. Nuclear Regulatory Commission, Washington, DC 20555. Telephone: (301) 415-8500; fax number: (301) 415-8555; e-mail: jas5@nrc.gov.

SUPPLEMENTARY INFORMATION: The U.S. Nuclear Regulatory Commission (NRC or the staff) is considering issuance of an exemption, pursuant to 10 CFR 72.7, from the provisions of 10 CFR 72.72(d) to Maine Yankee Atomic Power Company (Maine Yankee or applicant). The requested exemption would allow Maine Yankee to maintain a single set of spent fuel, high-level radioactive waste, and reactor-related Greater Than Class C (GTCC) waste records in accordance with the requirements of 10 CFR 50.71(d)(1), for the Independent Spent Fuel Storage Installation (ISFSI) at Maine Yankee in Wiscasset, Maine.

Environmental Assessment (EA)

Identification of Proposed Action: By letter dated November 29, 2004, Maine Yankee requested an exemption from the requirement in 10 CFR 72.72(d) which states in part that, “Records of spent fuel, high-level radioactive waste, and reactor-related GTCC waste containing special nuclear material meeting the requirements in paragraph (a) of this section must be kept in duplicate. The duplicate set of records must be kept at a separate location sufficiently remote from the original records that a single event would not destroy both sets of records.”

The proposed action before the Commission is whether to grant this exemption pursuant to 10 CFR 72.7.

Need for the Proposed Action: The applicant stated that ISFSI spent-fuel, high-level radioactive waste, and reactor-related GTCC waste records will be maintained in a manner consistent with the records of Maine Yankee, which are stored in compliance with the requirements established in 10 CFR 50.71(d)(1). No exemption is requested from the 10 CFR 72.72(d) requirements for the records retention period requirements. The applicant seeks to provide consistency in recordkeeping maintenance for the Maine Yankee ISFSI spent fuel, high-level radioactive waste, and reactor-related GTCC waste records. The exemption request will also preclude the need to construct and operate a separate, second records storage facility to store a duplicate set of spent-fuel, high-level radioactive waste, and reactor-related GTCC waste records.

10 CFR 50.71(d)(1) provides requirements for the maintenance of nuclear power plant records. The regulation states:

Records which must be maintained pursuant to this part may be the original or a reproduced copy or microform if such reproduced copy or microform is duly authenticated by authorized personnel and the microform is capable of producing a clear and legible copy after storage for the period specified by the Commission regulations. The record may also be stored in electronic media with the capability of producing legible, accurate, and complete records during the required retention period. Records such as letters, drawings, specifications, must include all pertinent information such as stamps, initials, and signatures. The licensee shall maintain adequate safeguards against tampering with and loss of records.

Regulatory Guide 1.88, “Collection, Storage, and Maintenance of Nuclear Power Plant Quality Assurance Records,” establishes guidance for the storage of nuclear plant quality assurance records. Maine Yankee plans to implement Revision 2 of Regulatory Guide 1.88, with minor exceptions described in the Maine Yankee Quality Assurance Plan (QAP).

The requirements in ANSI N45.2.9-1974 have been endorsed by the NRC in Regulatory Guide 1.88 as adequate for satisfying the recordkeeping requirements of 10 CFR Part 50, Appendix B, which states in part that “records shall be identifiable and retrievable.” Additionally, conditions in 10 CFR Part 50, Appendix B establish that “[c]onsistent with applicable regulatory requirements (including 10 CFR 50.71(d)(1)), the applicant shall establish requirements concerning record retention, such as duration, location, and assigned responsibility.” ANSI N.45.2.9-1974 also satisfies the requirements of 10 CFR 72.72 by providing for adequate maintenance of records regarding the identity and history of the spent fuel in storage. Such records would be subject to and need to be protected from the same types of degradation mechanisms as nuclear power plant Quality Assurance records.

Environmental Impacts of the Proposed Action: An exemption from the requirement to store a duplicate set of ISFSI records at a separate location has no impact on the environment. Storage of records does not change the methods by which spent fuel will be handled and stored at the Maine Yankee ISFSI and does not change the amount of effluents, radiological or nonradiological, associated with the ISFSI.

Alternative to the Proposed Action: Since there is no environmental impact associated with the proposed action, alternatives are not evaluated other than the no action alternative. The alternative to the proposed action would be to deny approval of the exemption and, therefore, not allow storage of ISFSI spent fuel records at a single qualified record storage facility. The no action alternative would require the applicant to construct or identify a separate storage facility; therefore, the environmental impacts of the proposed action would be less than, or the same as, the no action alternative.

Agencies and Persons Consulted: On March 28, 2005, Maine State Nuclear Safety Inspector Mr. Patrick Dostie was contacted regarding the environmental assessment for the proposed action and had no comments.

Finding of No Significant Impact

The environmental impacts of the proposed action have been reviewed in accordance with the requirements set forth in 10 CFR Part 51. Based upon the foregoing Environmental Assessment, the Commission finds that the proposed action of granting the exemption from 10 CFR 72.72(d), so that Maine Yankee may store spent fuel records for the ISFSI in a single records storage facility which meets the requirements of ANSI N.45.2.9-1974, with the given exception listed in the Maine Yankee QAP, will not significantly impact the quality of the human environment. Accordingly, the Commission has determined that an environmental impact statement for the proposed exemption is not necessary.

The request for exemption was docketed under 10 CFR Part 72, Docket 72-30. For further details with respect to this exemption request, see the Maine Yankee letter requesting the exemption dated November 29, 2004. Supporting documentation is available for inspection at the NRC's Public Electronic Reading Room at http://www.nrc.gov/reading-rm/adams.html. A copy of the Finding of No Significant Impact can be found at this site using the Agencywide Documents Access and Management System (ADAMS). These documents may also be viewed electronically on the public computers located at the NRC's Public Document Room (PDR), O1-F21, One White Flint North, 11555 Rockville Pike, Rockville, MD 20852. The PDR reproduction contractor will copy documents for a fee. Persons who do not have access to ADAMS or who encounter problems in accessing the documents located in ADAMS, should contact the NRC PDR Reference staff at 1-800-397-4209 or (301) 415-4737, or by e-mail to pdr@nrc.gov.

Dated at Rockville, Maryland, this 13th day of April 2005.
For the Nuclear Regulatory Commission.
Jeremy A. Smith,
Project Manager, Spent Fuel Project Office, Office of Nuclear Material Safety and Safeguards.

[FR Doc. E5-1854 Filed 4-19-05; 8:45 am]

BILLING CODE 7590-01-P